DEPARTMENT OF HEALTH AND HUMAN SERVICES

Administration for Children and Families

Submission for OMB Review; Comment Request

Title: National Survey of Child and Adolescent Well-Being-Third Cohort (NSCAW III): Data Collection.

OMB No.: 0970-0202.

Description: The Administration for Children and Families (ACF) within the U.S. Department of Health and Human Services (HHS) intends to collect data on a third cohort of children and families for the National Survey of Child and Adolescent Well-Being (NSCAW III). NSCAW is the only source of nationally representative, longitudinal, firsthand information about the functioning and well-being, service needs, and service utilization of children and families who come to the attention of the child welfare system. Information is collected about children's cognitive, social, emotional, behavioral, and adaptive functioning, as well as family and community factors that are likely to influence their functioning. Family service needs and service utilization also are addressed in the data collection.

A previous notice provided the opportunity for public comment on the proposed Phase 1 recruitment and sampling process (FR V.81, 4/8/2016). This notice is specific to the Phase 2 data collection activities: (1) Baseline and (2) 18-month follow-up data collection. Data collection includes child interviews and direct assessments, as well as caregiver and caseworker interviews. The overall goal is to maintain the strengths and continuity of the prior surveys while better positioning the study to address changes in the child welfare population.

Respondents: Children, and their associated caregivers and caseworkers.

Annual Burden Estimates
Instrument | Total number of respondents | Annual number of respondents (rounded) | Number of responses per respondent | Average burden hours per response | Annual burden hours
Baseline
Child Interview and Direct Assessments | 4,565 | 1,522 | 1 | 1.33 | 2,024
Caregiver Interview | 4,565 | 1,522 | 1 | 1.67 | 2,541
Caseworker Interview | 1,826 | 609 | 3 | .75 | 1,370
18-month Follow-up
Child Interview and Direct Assessment | 3,650 | 1,217 | 1 | 1.33 | 1,618
Caregiver Interview | 3,650 | 1,217 | 1 | 1.67 | 2,032
Caseworker Interview | 840 | 280 | 3 | 1.0 | 840
Estimated Total Annual Burden Hours: 10,425.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-03477 Filed 2-22-17; 8:45 am]

BILLING CODE 4184-01-P